DEPARTMENT OF TRANSPORTATION

Federal Aviation Administration

14 CFR Part 73

[Docket No. FAA-2025-0933; Airspace Docket No. 24-AEA-7]

RIN 2120-AA66

Revocation of Restricted Area R-6606 and Establishment of Restricted Area R-6606A and R-6606B; Pendleton, VA

AGENCY: Federal Aviation Administration (FAA), DOT.

ACTION: Final rule.

SUMMARY: This action subdivides restricted area R-6606 vertically into two sub areas by removing restricted area R-6606 and establishing R-6606A and R-6606B Pendleton, VA. This change creates an internal altitude sub-division to match daily mission requirements and allows more efficient use of the airspace. These changes do not add additional designated restricted area airspace.

DATES: Effective date 0901 UTC, October 2, 2025.

ADDRESSES: A copy of this final rule, and all background material may be viewed online at www.regulations.gov using the FAA Docket number. Electronic retrieval help and guidelines are available on the website. It is available 24 hours each day, 365 days each year. An electronic copy of this document may also be downloaded from the Office of the Federal Register's website at www.federalregister.gov.

FOR FURTHER INFORMATION CONTACT: Brian Vidis, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it amends restricted area airspace at Pendleton, VA, to enhance aviation safety and align with essential United States (U.S.) Navy activities.

Background

Washington Air Route Traffic Control Center (ARTCC) submitted a request in concurrence with the Commander, Fleet Area Control and Surveillance Facility, Virginia Capes, Virginia Beach, VA, to effectively create a vertical internal subdivision of restricted area R-6606 to align with daily mission requirements. Creating this subdivision allows for greater flexibility to schedule the use of the restricted area in accordance with common usage and accommodate aircraft transiting the area when it is not in use.

Restricted area R-6606 was designated from the surface to 51,000 feet mean sea level (MSL). This action revokes R-6606 and replaces it with R-6606A and R-6606B which share the same external boundary as restricted area R-6606. Restricted areas R-6606A and R-6606B overlay each other laterally. Restricted area R-6606A has designated altitudes from the surface to but not including 23,000 feet MSL and restricted area R-6606B has designated altitudes from 23,000 feet MSL to 51,000 feet MSL. Establishing the vertical subdivision of these restricted area airspaces allows for maximum joint use of the airspace by non-participant aircraft when U.S. Navy training does not require all designated altitudes.

Upon review of the restricted area R-6606, the FAA identified two boundary points used in the boundary descriptions that required technical amendment to accurately align with the shoreline used in the description. This action includes these geographic coordinate technical amendments to align with the shoreline, as originally intended.

These changes do not represent any changes in lateral or vertical boundaries (aside from the subdivision), operations, or new equipment being utilized in the airspace; nor does it reflect any increase in the number of operations that would be conducted.

The Rule

This action amends 14 CFR part 73 by removing restricted area R-6606 and in its place establishing R-6606A and R-6606B Pendleton, VA, to match daily mission requirements and maximize public use of the airspace.

Restricted area R-6606 is revoked. Restricted areas R-6606A and R-6606B are established and share common boundaries that overlay each other. The designated altitudes for R-6606A are “surface to but not including 23,000 feet MSL”. The designated altitudes for R-6606B are “23,000 feet MSL to 51,000 feet MSL”.

The FAA also makes a technical amendment to two geographic points in the description of restricted areas R-6606A and R-6606B. These minor amendments to the geographic coordinates more accurately describe the intersection of each restricted area where it meets the shoreline. Updating these coordinates does not change the boundaries of the restricted areas, but rather increases the accuracy of the shoreline due to digital precision survey. The point “lat. 36°51′01″ N, long. 75°54′29″ W” is changed to “lat. 36°51′01″ N, long. 75°54′34″ W”; and the point “lat. 36°34′34″ N, long. 75°48′23″ W” is changed to “lat. 36°34′54″ N, long. 75°48′40″ W”.

Good Cause for Bypassing Notice and Comment

The Administrative Procedure Act (APA) authorizes agencies to dispense with ordinary notice and comment requirements for rules when the agency for “good cause” finds that those procedures are “impracticable, unnecessary, or contrary to the public interest.” 5 U.S.C. 553(b)(B). This action consists of administrative internal altitude amendments and technical amendments to two geographic points only and does not affect the boundaries, total volume of airspace, time of designation, or activities conducted in the airspace. This amendment will not impose any additional substantive restrictions or requirements on the persons affected by these regulations as it does not affect the airspace boundaries or operating requirements. Therefore, the FAA finds that notice and public procedure under 5 U.S.C. 553(b) is unnecessary.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of revocation of restricted area R-6606, establishment of restricted areas R-6606A and R-6606B (an internal altitude sub-division of R-6606), and technical amendments to geographic coordinates, qualifies for categorical exclusion under the National Environmental Policy Act (42 U.S.C. 4321, et seq.) and paragraph 5-6.5a of FAA's NEPA implementation policy and procedures which categorically excludes from further environmental impact review rulemaking actions that designate or modify classes of airspace areas, airways, routes, and reporting points (see 14 CFR part 71, Designation of Class A, B, C, D, and E Airspace Areas; Air Traffic Service Routes; and Reporting Points); and paragraph 5-6.5d—Modification of the technical description of special use airspace (SUA) that does not alter the dimensions, altitudes, or times of designation of the airspace (such as changes in designation of the controlling or using agency, or correction of typographical errors). In accordance with FAA's NEPA implementation policy and procedures regarding Extraordinary Circumstances, the FAA has reviewed this action for factors and circumstances in which a normally categorically excluded action may have a significant environmental impact requiring further analysis. Accordingly, the FAA has determined that no extraordinary circumstances exist that warrant preparation of an environmental assessment or environmental impact statement.

List of Subjects in 14 CFR Part 73

Airspace, Prohibited areas, Restricted areas.

The Amendment

In consideration of the foregoing, the Federal Aviation Administration amends 14 CFR part 73 as follows:

PART 73—SPECIAL USE AIRSPACE

1. The authority citation for 14 CFR part 73 continues to read as follows:

Authority: 49 U.S.C. 106(f), 106(g); 40103, 40113, 40120; E.O. 10854, 24 FR 9565, 3 CFR, 1959-1963 Comp., p.389.

§ 73.66 Virginia (VA) [Amended]

2. Section 73.66 is amended as follows:

* * * * *

R-6606 Pendleton, VA [Removed]

R-6606A Pendleton, VA [New]

Boundaries. Beginning at lat. 36°51′01″ N, long. 075°54′34″ W; thence 3 nautical miles from and parallel to the shoreline to lat. 36°34′54″ N, long. 075°48′40″ W; to lat. 36°45′04″ N, long. 075°56′11″ W; to lat. 36°44′46″ N, long. 075°57′04″ W; to lat. 36°44′40″ N, long. 075°57′59″ W; to lat. 36°47′01″ N, long. 075°58′44″ W; to lat. 36°47′19″ N, long. 075°56′53″ W; to the point of beginning.

Designated altitudes. Surface to but not including 23,000 feet MSL.

Time of designation. 0800-1700 hours local time, Monday-Friday. Other times by NOTAM issued 48 hours in advance.

Controlling agency. FAA, Washington ARTCC.

Using agency. Fleet Area Control and Surveillance Facility, VACAPES, Virginia Beach, VA.

R-6606B Pendleton, VA [New]

Boundaries. Beginning at lat. 36°51′01″ N, long. 075°54′34″ W; thence 3 nautical miles from and parallel to the shoreline to lat. 36°34′54″ N, long. 075°48′40″ W; to lat. 36°45′04″ N, long. 075°56′11″ W; to lat. 36°44′46″ N, long. 075°57′04″ W; to lat. 36°44′40″ N, long. 075°57′59″ W; to lat. 36°47′01″ N, long. 075°58′44″ W; to lat. 36°47′19″ N, long. 075°56′53″ W; to the point of beginning.

Designated altitudes. 23,000 feet MSL to 51,000 feet MSL.

Time of designation. By NOTAM.

Controlling agency. FAA, Washington ARTCC.

Using agency. Fleet Area Control and Surveillance Facility, VACAPES, Virginia Beach, VA.

* * * * *

Issued in Washington, DC, on July 9, 2025.
Brian Eric Konie,
Manager (A), Rules and Regulations Group.

[FR Doc. 2025-13110 Filed 7-11-25; 8:45 am]

BILLING CODE 4910-13-P